ENVIRONMENTAL PROTECTION AGENCY

40 CFR Part 62

[EPA-R03-OAR-2016-0081; FRL-9961-22-Region 3]

Approval and Promulgation of State Air Quality Plans for Designated Facilities and Pollutants; State of Delaware, District of Columbia, and Commonwealth of Pennsylvania, City of Philadelphia; Control of Emissions From Existing Commercial and Industrial Solid Waste Incinerator Units

AGENCY: Environmental Protection Agency (EPA).

ACTION: Proposed rule.

SUMMARY: The Environmental Protection Agency (EPA) is proposing to notify the public that it has received negative declarations for commercial and industrial solid waste incineration (CISWI) units within the State of Delaware, the District of Columbia, and the City of Philadelphia in the Commonwealth of Pennsylvania. These negative declarations certify that CISWI units subject to the requirements of sections 111(d) and 129 of the Clean Air Act (CAA) do not exist within the jurisdictional boundaries of the State of Delaware, the District of Columbia, and the City of Philadelphia in the Commonwealth of Pennsylvania. EPA is accepting the negative declarations in accordance with the requirements of the CAA. In the Final Rules section of this Federal Register, EPA is accepting the negative declarations as a direct final rule without prior proposal because the Agency views this as a noncontroversial submittal and anticipates no adverse comments. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by May 31, 2017.

ADDRESSES: Submit your comments, identified by Docket ID No. EPA-R03-OAR-2016-0081 at https://www.regulations.gov, or via email to miller.linda@epa.gov. For comments submitted at Regulations.gov, follow the online instructions for submitting comments. Once submitted, comments cannot be edited or removed from Regulations.gov. For either manner of submission, the EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Mary Cate Opila, (215) 814-2041, or by email at opila.marycate@epa.gov.

SUPPLEMENTARY INFORMATION: For further information regarding the negative declarations for CISWI units within the State of Delaware, the District of Columbia, and the City of Philadelphia in the Commonwealth of Pennsylvania, please see the information provided in the direct final action, with the same title, that is located in the “Rules and Regulations” section of this Federal Register publication and in the technical support documentation for this rulemaking. Supporting documentation, including the technical support document, for this action is available in the docket for this rulemaking and available online at www.regulations.gov.

List of Subjects in 40 CFR Part 62

Environmental protection, Administrative practice and procedure, Air pollution control, Incorporation by reference, Intergovernmental relations, Reporting and recordkeeping requirements, Commercial and industrial solid waste incineration units.

Dated: March 21, 2017.
Cecil Rodrigues,
Acting Regional Administrator, Region III.

[FR Doc. 2017-08658 Filed 4-28-17; 8:45 am]

BILLING CODE 6560-50-P